DEPARTMENT OF THE TREASURY

Office of Foreign Assets Control

Supplemental Identification Information for One (1) Individual Designated Pursuant to Executive Order 13224

AGENCY: Office of Foreign Assets Control, Treasury.

ACTION: Notice.

SUMMARY: The Treasury Department's Office of Foreign Assets Control (“OFAC”) is publishing supplemental information for the names of one (1) individual whose property and interests in property are blocked pursuant to Executive Order 13224 of September 23, 2001, “Blocking Property and Prohibiting Transactions With Persons Who Commit, Threaten To Commit, or Support Terrorism.”

DATES: The publishing of updated identification information by the Director of OFAC of the one (1) individual in this notice, pursuant to Executive Order 13224, is effective on April 1, 2014.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (www.treasury.gov/ofac) or via facsimile through a 24-hour fax-on-demand service, tel.: 202/622-0077.

On April 1, 2014 the Director of OFAC supplemented the identification information for one (1) individual whose property and interests in property are blocked pursuant to Executive Order 13224.

The supplementation identification information for the individual is as follows:

Individual

1. RAUF, Hafiz Abdur (a.k.a. RAOUF, Hafiz Abdul; a.k.a. RAUF, Hafiz Abdul), 4 Lake Road, Room No. 7, Choburji, Lahore, Pakistan; Dola Khurd, Lahore, Pakistan; 129 Jinnah Block, Awan Town, Multan Road, Lahore, Pakistan; 33 Street No. 3, Jinnah Colony, Tehsil Kabir Wala, District Khanewal, Pakistan; 5-Chamberlain Road, Lahore, Pakistan; DOB 25 Mar 1973; POB Sialkot, Punjab Province, Pakistan; Passport CM1074131 (Pakistan) issued 29 Oct 2008 expires 29 Oct 2013; alt. Passport Booklet: A7523531 (Pakistan); National ID No. CNIC: 35202-5400413-9 (Pakistan); alt. National ID No. NIC: 277-93-113495 (Pakistan); alt. National ID No. 27873113495 (Pakistan) (individual) [SDGT].

Dated: April 1, 2014.
Adam J. Szubin,
Director, Office of Foreign Assets Control.

[FR Doc. 2014-08104 Filed 4-9-14; 8:45 am]

BILLING CODE 4810-AL-P